DEPARTMENT OF EDUCATION

[Docket No.: ED-2019-ICCD-0050]

Agency Information Collection Activities; Comment Request; Individuals With Disabilities Education Act (IDEA) State and Local Implementation Study 2019

AGENCY: Institute of Education Sciences (IES), Department of Education (ED).

ACTION: Notice.

SUMMARY: In accordance with the Paperwork Reduction Act of 1995, ED is proposing a new information collection.

DATES: Interested persons are invited to submit comments on or before June 14, 2019.

ADDRESSES: To access and review all the documents related to the information collection listed in this notice, please use http://www.regulations.gov by searching the Docket ID number ED-2019-ICCD-0050. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Erica Johnson, 202-245-7676.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Individuals with Disabilities Education Act (IDEA) State and Local Implementation Study 2019.

OMB Control Number: 1850-NEW.

Type of Review: A new information collection.

Respondents/Affected Public: State, Local, and Tribal Governments.

Total Estimated Number of Annual Responses: 1,153.

Total Estimated Number of Annual Burden Hours: 970.

Abstract: The data collection for the Individuals with Disabilities Education Act (IDEA) State and Local Implementation Study 2019 will examine how states, districts, and schools are identifying and supporting children and youth with disabilities. The study is one component of a Congressionally-mandated National Assessment of IDEA.

The purpose of this data collection is to develop an up-to-date national picture of how states, districts, and schools are implementing IDEA in order to provide ED, Congress, and other stakeholders with knowledge that can inform the next reauthorization of IDEA and, ultimately, how services are provided to children. This study of IDEA is necessary because a decade has passed since the previous IDEA national implementation study, and subsequent developments may have influenced the context and implementation of special education and early intervention.

The surveys will be administered in Fall 2019. All respondents will have the opportunity to complete an electronic survey (or paper survey, if preferred). The survey respondents are described briefly below:

State Surveys: The study team will administer three separate electronic surveys that focus on the Part C program for infants and toddlers (administered to the Part C infants and toddlers program coordinator), the Part B program for preschool-age children (administered to the Part B program for preschool-age children coordinator), and the Part B program for school-age children and youth (administered to the special education director). Three surveys are necessary because different state administrators are likely to oversee IDEA programs for children at those different age levels. The state surveys will be administered to the respondents in each of the 61 state-level entities that receive IDEA funding: all 50 states, the District of Columbia, 8 U.S. territories, the Bureau of Indian Education, and the Department of Defense Education Activity.

School District Surveys: The study team will administer two separate electronic surveys that focus on the Part B program for preschool-age children (administered to the Part B program for pre-school age children coordinator) and the IDEA Part B program for school-age children and youth (administered to the special education director). If a district does not have a Part B program for preschool-age children coordinator, the study team will work with the district to identify the survey's most appropriate respondent, likely someone in the pre-school special education leadership. Two surveys are necessary because different district staff members are likely to oversee IDEA programs for students at those different age levels. The study team will administer the Part B program for preschool-age children survey to a nationally representative sample of 602 school districts and the Part B program for school-age children survey to a nationally representative sample of 665 school districts. (Of the 665 districts selected overall, 63 do not offer pre-kindergarten instruction and are not eligible for the preschool-age district survey.)

School Surveys: A single school survey covers the Part B program for school-age children, the Part B program for preschool-age children, the transition from the Part C infants and toddlers program, and transition planning for secondary school students. The school survey will be administered to the school principal or lead special education staff. The study team will administer an electronic survey to a nationally representative sample of 2,750 schools from the 665 selected districts.

Dated: April 10, 2019.
Stephanie Valentine,
PRA Clearance Coordinator, Information Collection Clearance Program, Information Management Branch, Office of the Chief Information Officer.

[FR Doc. 2019-07424 Filed 4-12-19; 8:45 am]

BILLING CODE 4000-01-P